NATIONAL FOUNDATION ON THE ARTS AND THE HUMANITIES

National Endowment for the Arts; Leadership Initiatives Advisory Panel—Notice of Change

Pursuant to section 10(a)(2) of the Federal Advisory Committee Act (Public Law 92-463), as amended, notice is hereby given that the open session for the meeting of the Leadership Initiatives Advisory Panel, Folk & Traditional Arts section (Infrastructure Initiative category), to the National Council on the Arts, previously announced for 9 a.m.-10:30 a.m. on January 11, 2001 will be held on the 11th from 12 p.m. to 1 p.m. The meeting will be held in Room 708 at the Nancy Hanks Center, 1100 Pennsylvania Avenue, NW., Washington, DC 20506.

Dated: December 19, 2000.
Kathy Plowitz-Worden,
Panel Coordinator, Panel Operations, National Endowment for the Arts.

[FR Doc. 00-32957 Filed 12-26-00; 8:45 am]

BILLING CODE 7537-01-M